DEPARTMENT OF TRANSPORTATION

Federal Aviation Administration

14 CFR Part 39

[Docket No. FAA-2008-0265; Directorate Identifier 2007-NM-349-AD]

RIN 2120-AA64

Airworthiness Directives; Bombardier Model CL-600-2B19 (Regional Jet Series 100 & 440) Airplanes

AGENCY: Federal Aviation Administration (FAA), Department of Transportation (DOT).

ACTION: Notice of proposed rulemaking (NPRM).

SUMMARY: The FAA proposes to supersede an existing airworthiness directive (AD) that applies to certain Bombardier Model CL-600-2B19 airplanes. The existing AD currently requires repetitive eddy current inspections for cracking of the main landing gear (MLG) main fittings, and replacement with new or serviceable MLG main fittings if necessary. The existing AD also currently requires servicing the MLG shock struts; inspecting the MLG shock struts for nitrogen pressure, visible chrome dimension, and oil leakage; and performing corrective actions, if necessary. This proposed AD would require replacement of the MLG main fittings with new improved MLG main fittings, which would terminate the repetitive inspections of the MLG main fittings and inspection and servicing of the MLG shock struts. This proposed AD results from premature failure of the MLG main fittings. We are proposing this AD to prevent failure of the MLG main fittings, which could result in collapse of the MLG upon landing.

DATES: We must receive comments on this proposed AD by April 10, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Bombardier, Inc., Canadair, Aerospace Group, P.O. Box 6087, Station Centre-ville, Montreal, Quebec H3C 3G9, Canada.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Pong K. Lee, Aerospace Engineer, Airframe and Propulsion Branch, ANE-171, FAA, New York Aircraft Certification Office, 1600 Stewart Avenue, Suite 410, Westbury, New York 11590; telephone (516) 228-7324; fax (516) 794-5531.

SUPPLEMENTARY INFORMATION:

Comments Invited

We invite you to send any written relevant data, views, or arguments about this proposed AD. Send your comments to an address listed under the ADDRESSES section. Include “Docket No. FAA-2008-0265; Directorate Identifier 2007-NM-349-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On May 20, 2003, we issued AD 2003-11-11, amendment 39-13170 (68 FR 31956, May 29, 2003), for certain Bombardier Model CL-600-2B19 airplanes. That AD requires repetitive eddy current inspections for cracking of the main landing gear (MLG) main fittings, and replacement with new or serviceable MLG main fittings if necessary. That AD also requires servicing the MLG shock struts; inspecting the MLG shock struts for nitrogen pressure, visible chrome dimension, and oil leakage; and performing corrective actions, if necessary. That AD resulted from issuance of mandatory continuing airworthiness information by a foreign civil airworthiness authority. We issued that AD to prevent failure of the MLG main fittings, which could result in collapse of the MLG upon landing.

Actions Since Existing AD Was Issued

Since we issued AD 2003-11-11, Transport Canada Civil Aviation (TCCA), which is the airworthiness authority for Canada, notified us that it has certified a new design of the MLG main fitting. Installation of the new improved MLG main fittings would eliminate the need for the repetitive inspections of the MLG main fittings and the inspection and servicing of the MLG shock struts.

The preamble to AD 2003-11-11 explains that we consider the requirements “interim action” and were considering further rulemaking. We now have determined that further rulemaking is indeed necessary, and this proposed AD follows from that determination.

Other Related Rulemaking

On December 21, 2006, we issued AD 2007-01-07, amendment 39-14879 (72 FR 1430, January 12, 2007), for Model CL-600-2B19 (Regional Jet Series 100 & 440) airplanes having serial numbers (S/Ns) 7003 through 7067 inclusive and S/Ns 7069 through 8999 inclusive, equipped with MLG main fittings having part number (P/N) 601R85001-3 or -4 (Messier-Dowty P/N 17064-101, -102, -103, or -104). That AD requires repetitive inspections for cracks, sealant damage, and corrosion of the main fittings of the MLG, and corrective actions if necessary. That AD also requires replacement of both main fittings of the MLG with new main fittings, which terminates the repetitive inspections. That AD resulted from a report of a cracked main fitting of the MLG. We issued that AD to detect and correct fatigue cracking of the main fitting of the MLG and consequent failure of the main fitting, which could result in the collapse of the MLG. For certain airplanes, accomplishing the replacements in accordance with paragraph (l) of AD 2007-01-07 is considered acceptable for compliance with the replacement specified in this proposed AD.

On January 29, 2007, we issued AD 2007-03-19, amendment 39-14930 (72 FR 5925, February 8, 2007), for certain Model CL-600-2B19 (Regional Jet Series 100 & 440) airplanes having S/Ns 7003 and subsequent, equipped with MLG main fittings having P/N 601R85001-81 and -82 (Messier-Dowty P/N 17064-105 and -106). That AD requires repetitive detailed and eddy current inspections of the main fittings of the MLGs to detect discrepancies, and related investigative/corrective actions if necessary. That AD also requires servicing the shock strut of the MLGs; inspecting the shock strut of the MLGs for nitrogen pressure, visible chrome dimension, and oil leakage; and servicing any discrepant strut. That AD also requires installing a new improved MLG main fitting, which terminates the repetitive inspections and servicing requirements. That AD resulted from stress analyses that showed certain main fittings of the MLG are susceptible to premature cracking, starting in the radius of the upper lug. We issued that AD to detect and correct premature cracking of the main fittings of the MLGs, which could result in failure of the fittings and consequent collapse of the MLGs during landing. The requirements of AD 2007-03-19 do not affect the actions specified in this proposed AD, since AD 2007-03-19 is applicable to airplanes equipped with different MLG main fittings.

Relevant Service Information

Bombardier has issued Service Bulletin 601R-32-093, Revision B, dated July 14, 2005. The service bulletin describes procedures for replacing the MLG main fittings with new improved MLG main fittings having P/Ns 601R85001-83 and -84 (Messier-Dowty P/Ns 17064-107 and -108). Accomplishing the actions specified in the service information is intended to adequately address the unsafe condition. TCCA mandated the service information and issued Canadian airworthiness directive CF-1999-32R3, dated September 21, 2005, to ensure the continued airworthiness of these airplanes in Canada.

FAA's Determination and Requirements of the Proposed AD

These airplanes are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that AD action is necessary for airplanes of this type design that are certificated for operation in the United States.

This proposed AD would supersede AD 2003-11-11 and would retain the requirements of the existing AD. This proposed AD would also require accomplishing the actions specified in the service information described previously, except as discussed under “Difference Between the Proposed AD and Canadian Airworthiness Directive.”

Difference Between the Proposed AD and Canadian Airworthiness Directive

Canadian airworthiness directive CF-1999-32R3 specifies replacing the MLG main fittings by June 30, 2007, which is a compliance time of about 21 months after issuance of Canadian airworthiness directive CF-1999-32R3. This proposed AD, however, would require replacing the MLG main fittings within 6 months after the effective date of the AD. In developing an appropriate compliance time for this proposed AD, we considered not only the manufacturer's recommendation, but the degree of urgency associated with addressing the subject unsafe condition, the average utilization of the affected fleet, and the time necessary to perform the replacements. In light of all of these factors, we find a compliance time of 6 months for completing the required actions to be warranted, in that it represents an appropriate interval of time for affected airplanes to continue to operate without compromising safety. This difference has been coordinated with TCCA.

Change to Existing AD

This proposed AD would retain all requirements of AD 2003-11-11. Since AD 2003-11-11 was issued, the AD format has been revised, and certain paragraphs have been rearranged. As a result, the corresponding paragraph identifiers have changed in this proposed AD, as listed in the following table:

Revised Paragraph Identifiers
Requirement in AD 2003-11-11 | Corresponding requirement in this proposed AD
Paragraph (a) | Paragraph (f).
Paragraph (b) | Paragraph (g).
Paragraph (c) | Paragraph (h).
Paragraph (d) | Paragraph (i).
Paragraph (e) | Paragraph (j).
Paragraph (f) | Paragraph (k).
Paragraph (g) | Paragraph (l).
Paragraph (h) | Paragraph (m).
Paragraph (i) | Paragraph (n).
Paragraph (j) | Paragraph (o).
Paragraph (k) | Paragraph (p).
Paragraph (l) | Paragraph (q).

Costs of Compliance

The following table provides the estimated costs, at an average labor rate of $80 per work hour, for U.S. operators to comply with this proposed AD. Due to other existing ADs, the proposed actions have already been accomplished on the majority of affected U.S.-registered airplanes; therefore, the estimated costs will be significantly less than those specified in the table.

Estimated Costs
Action | Work hours | Parts | Cost per airplane | Number of U.S.-registered airplanes | Fleet cost
Detailed inspection (required by AD 2003-11-11) | 1 | None | $80, per inspection cycle | 618 | $49,440, per inspection cycle
Eddy current inspection (required by AD 2003-11-11) | 1 | None | $80, per inspection cycle | 618 | $49,440, per inspection cycle
Fluorescent penetrant inspection (required by AD 2003-11-11) | 1 | None | $80, per inspection cycle | 618 | $49,440, per inspection cycle
Inspection and servicing of shock struts (required by AD 2003-11-11) | 2 | None | $160, per inspection cycle | 618 | $98,880, per inspection cycle
Replacement (new proposed action) | 56 | Up to $35,000 | Up to $39,480 | 618 | $24,398,640

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13170 (68 FR 31956, May 29, 2003) and adding the following new airworthiness directive (AD):

Bombardier, Inc. (Formerly Canadair): Docket No. FAA-2008-0265; Directorate Identifier 2007-NM-349-AD.

Comments Due Date

(a) The FAA must receive comments on this AD action by April 10, 2008.

Affected ADs

(b) This AD supersedes AD 2003-11-11.

Applicability

(c) This AD applies to Bombardier Model CL-600-2B19 (Regional Jet Series 100 & 440) airplanes, certificated in any category; having serial numbers (S/Ns) 7003 and subsequent, equipped with main landing gear (MLG) main fittings having part numbers (P/Ns) 601R85001-3 and -4 (Messier-Dowty P/Ns 17064-101, -102, -103, and -104).

Unsafe Condition

(d) This AD results from premature failure of the MLG main fittings. We are issuing this AD to prevent failure of the MLG main fittings, which could result in collapse of the MLG upon landing.

Compliance

(e) You are responsible for having the actions required by this AD performed within the compliance times specified, unless the actions have already been done.

Note 1: Where there are differences between the referenced service bulletin and the AD, the AD prevails.

Restatement of Requirements of AD 2003-11-11

Service Bulletin References

(f) Accomplishment of the inspections and servicing, as applicable, specified in paragraphs (h), (l), (m), and (n) of this AD, per Bombardier Alert Service Bulletin A601R-32-079, dated December 3, 1999; Revision ‘A,’ dated January 7, 2000; Revision ‘B,’ dated June 1, 2000; Revision ‘C,’ dated October 26, 2000; or Revision ‘D,’ dated December 1, 2000; prior to June 13, 2003 (the effective date of AD 2003-11-11), is considered acceptable for compliance with the requirements of paragraphs (h), (l), (m), and (n) of this AD.

(g) The term “service bulletin,” as used in paragraphs (h) through (q) of this AD, means the Accomplishment Instructions of Bombardier Alert Service Bulletin A601R-32-079, Revision ‘E,’ dated September 12, 2002; including Appendix 1, Revision D, dated September 12, 2002; including Appendices 2 and 3, dated September 12, 2002.

Initial Eddy Current Inspection

(h) Perform an eddy current inspection to detect cracking of the MLG main fittings, per PART B of the service bulletin, at the earlier of the times specified in paragraph (h)(1) or (h)(2) of this AD.

(1) Prior to the accumulation of 1,500 total flight cycles on the MLG, or within 150 flight cycles after December 4, 2001 (the effective date of AD 2001-22-09, amendment 39-12488, which was superseded by AD 2003-11-11), whichever occurs later.

(2) Prior to the accumulation of 1,000 total flight cycles on the MLG, or within 150 flight cycles after June 13, 2003, whichever occurs later.

Repetitive Eddy Current Inspections

(i) Repeat the eddy current inspection specified in paragraph (h) of this AD at the time specified in paragraph (i)(1), (i)(2), or (i)(3), as applicable, except as provided by paragraph (i)(4) of this AD, per PART B of the service bulletin.

(1) For airplanes on which the eddy current inspection required by paragraph (g) of this AD is accomplished after June 13, 2003: Repeat the inspection at intervals not to exceed 500 flight cycles.

(2) For airplanes on which the repetitive eddy current inspection required by AD 2001-22-09 has been accomplished, and on which the repetitive intervals have been increased per paragraph (j) of AD 2001-22-09 before June 13, 2003: Repeat the inspection within 500 flight cycles after June 13, 2003, or within 1,000 flight cycles since the last eddy current inspection, whichever occurs first, and thereafter at intervals not to exceed 500 flight cycles.

(3) For airplanes on which the repetitive eddy current inspection required by AD 2001-22-09 has been accomplished, and on which the repetitive intervals have not been increased per paragraph (j) of AD 2001-22-09 before June 13, 2003: Repeat the eddy current inspection at intervals not to exceed 500 flight cycles.

(4) For airplanes on which an eddy current inspection has been accomplished to confirm the detailed inspection required by paragraph (o) of this AD: The next eddy current inspection must be done within 500 flight cycles following the last detailed inspection required by paragraph (o) of this AD, and thereafter at intervals not to exceed 500 flight cycles.

Corrective Actions

(j) If no cracking of the MLG main fittings is suspected during the next eddy current inspection required by paragraph (h) or (i) of this AD, but the paint has been removed: Prior to further flight, apply a new finish and install the harness clamp on the brake line with the bolt, washers, nut, and cotter pin; per PART B of the service bulletin.

(k) If any cracking of the MLG main fittings is found during any eddy current inspection required by paragraph (h) or (i) of this AD: Prior to further flight, replace any cracked MLG main fitting with a new or serviceable part per the service bulletin.

Servicing the Shock Struts

(l) Prior to the accumulation of 1,500 total flight cycles on the MLG shock struts, or within 500 flight cycles after December 4, 2001, whichever occurs later: Service (Oil and Nitrogen) the left and right MLG shock struts per PART C (for airplanes on the ground) or PART D (for airplanes on jacks) of the service bulletin.

Other Inspections

(m) Within 500 flight cycles after completing the actions required by paragraph (l) of this AD: Inspect the MLG left and right shock struts for nitrogen pressure, visible chrome dimension, and oil leakage, in accordance with PART E of the service bulletin. Thereafter, repeat the inspection at intervals not to exceed 500 flight cycles.

Corrective Actions for Certain Inspections

(n) If the chrome extension dimension of the shock strut pressure reading is outside the limits specified in the Airplane Maintenance Manual, Task 32-11-05-220-801, or any oil leakage is found during any inspection required by paragraph (m) of this AD: Prior to further flight, service the MLG shock strut in accordance with PART C (for airplanes on the ground) or PART D (for airplanes on jacks) of the service bulletin.

Detailed and Follow-On Inspections and Corrective Action

(o) Prior to the accumulation of 1,000 total flight cycles on the MLG, or within 250 flight cycles after June 13, 2003, whichever occurs later: Accomplish a detailed inspection of the MLG main fittings to detect signs of cracking (including linear paint cracks along the circumference of the main fitting tube, lack of paint (paint peeling) or other paint damage, lack of adhesion or paint bulging, and signs of corrosion), per PART A of the service bulletin. Repeat the inspection thereafter at intervals not to exceed 100 flight cycles.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(p) If any linear paint crack along the circumference of the main fitting tube, lack of paint (paint peeling) or other paint damage, evidence of paint bulging due to lack of adhesion, or evidence of corrosion is found during any inspection required by paragraph (o) of this AD: Prior to further flight, accomplish either an eddy current inspection to detect cracking, per PART B of the service bulletin; or a fluorescent penetrant inspection to detect cracking, per PART F of the service bulletin.

(1) If no cracking of the MLG main fittings is found during any inspection required by paragraph (p) of this AD: Prior to further flight, repaint and/or repair/rework any paint damage per PART B of the service bulletin.

(2) If any cracking of the MLG main fittings is found during any inspection required by paragraph (p) of this AD: Prior to further flight, replace any cracked MLG main fitting with a new or serviceable part per the service bulletin.

Reporting Requirement

(q) Within 30 days after each inspection and servicing required by paragraphs (h), (i), (l), (m), (o), and (p) of this AD, report all findings, positive or negative, to: Bombardier Aerospace, In-Service Engineering, fax number 514-855-8501. Although the service bulletin references completion of a “Service Bulletin Comment Sheet-Facsimile Reply Sheet,” this AD does not require that action. Information collection requirements contained in this regulation have been approved by the Office of Management and Budget (OMB) under the provisions of the Paperwork Reduction Act of 1980 (44 U.S.C. 3501 et seq.) and have been assigned OMB Control Number 2120-0056.

New Requirements of This AD

Replacement

(r) Within 6 months after the effective date of this AD, replace the MLG main fittings with new improved MLG main fittings, in accordance with Bombardier Service Bulletin 601R-32-093, Revision B, dated July 14, 2005. Replacing the MLG main fittings terminates the requirements of paragraphs (h) through (q) of this AD.

Credit for Actions Done According to Previous Issues of the Service Bulletin

(s) Replacements done before the effective date of this AD in accordance with Bombardier Service Bulletin 601R-32-093, dated October 17, 2003; or Revision A, dated September 21, 2004; are acceptable for compliance with the requirements of paragraph (r) of this AD.

Credit for AD 2007-01-07

(t) For airplanes having S/Ns 7003 through 7067 inclusive and S/Ns 7069 through 8999 inclusive, equipped with MLG main fittings having P/N 601R85001-3 or -4 (Messier-Dowty P/N 17064-101, -102, -103, or -104): Accomplishing the replacements required by paragraph (l) of AD 2007-01-07, amendment 39-14879, is acceptable for compliance with the requirements of paragraph (r) of this AD.

Alternative Methods of Compliance (AMOCs)

(u)(1) The Manager, New York Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs issued to allow escalation of the repetitive intervals for the eddy current inspections from 500 to 1,000 flight cycles in accordance with paragraph (e) of AD 2001-22-09 are not approved as AMOCs with this AD.

Note 3: Information concerning the existence of AMOCs with this AD, if any, may be obtained from the New York ACO.

Related Information

(v) Canadian airworthiness directive CF-1999-32R3, dated September 21, 2005, also addresses the subject of this AD.

Issued in Renton, Washington, on March 3, 2008.
Ali Bahrami,
Manager, Transport Airplane Directorate, Aircraft Certification Service.

[FR Doc. E8-4769 Filed 3-10-08; 8:45 am]

BILLING CODE 4910-13-P